DEPARTMENT OF ENERGY

Federal Energy Regulatory Commission

[Docket Nos. CP18-102-000 and CP18-103-000]

Cheyenne Connector, LLC and Rockies Express Pipeline LLC; Notice of Schedule for Environmental Review of the Cheyenne Connector Pipeline and Cheyenne Hub Enhancement Projects

On March 5, 2018, Cheyenne Connector, LLC and Rockies Express Pipeline LLC (“applicants”) filed an application in Docket Nos. CP18-102-000 and CP18-103-000 requesting a Certificate of Public Convenience and Necessity pursuant to Section 7(c) of the Natural Gas Act to construct and operate certain natural gas pipeline facilities. The proposed projects are known as the Cheyenne Connector Pipeline and Cheyenne Hub Enhancement Projects (Projects), and would include new natural gas pipeline, metering, and compression facilities to transport about 600 million cubic feet per day.

On March 19, 2018, the Federal Energy Regulatory Commission (Commission or FERC) issued its Notice of Application for the Projects. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA December 18, 2018

90-day Federal Authorization Decision Deadline March 18, 2019

If a schedule change becomes necessary, additional notice will be provided so that the relevant agencies are kept informed of the Projects' progress.

Project Description

The Projects include approximately 70 miles of 36-inch-diameter pipeline, three associated mainline valves, and other ancillary facilities; five meter and regulating stations; one new approximately 32,100 horsepower Cheyenne Hub Booster Compressor Station; and enhancements to modify the existing Cheyenne Hub interconnect facilities in Weld County, Colorado.

Background

On May 3, 2018, the Commission issued a Notice of Intent to Prepare an Environmental Assessment for the Proposed Cheyenne Connector Pipeline and Cheyenne Hub Enhancement Projects and Request for Comments on Environmental Issues (NOI). The NOI was sent to affected landowners; federal, state, and local government agencies; elected officials; environmental and public interest groups; Native American tribes; other interested parties; and local libraries and newspapers. In response to the NOI, the Commission received comments from: DCP Midstream, LP, Teamsters National Pipeline LMCP, Colorado Interstate Pipeline, L.L.C., Anadarko Energy Services Company, Cheyenne Connector, LLC, HLT Farms, LLLP, the Town of Kersey, two Native American tribes, and four individuals. The primary issues raised by the commentors are alternatives, Project construction affecting the Irons Lateral Ditch, cultural resources, public health and safety, land values, industrialization of agricultural land, and environmental justice. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Projects is available from the Commission's Office of External Affairs at (866) 208-FERC or on the FERC website (www.ferc.gov). Using the eLibrary link, select General Search from the eLibrary menu, enter the selected date range and Docket Number excluding the last three digits (i.e., CP18-102 or CP18-103), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 11, 2018.
Kimberly D. Bose,
Secretary.

[FR Doc. 2018-22608 Filed 10-16-18; 8:45 am]

BILLING CODE 6717-01-P